DEPARTMENT OF TRANSPORTATION

Federal Aviation Administration

14 CFR Part 39

[Docket No. 2001-NM-243-AD]

RIN 2120-AA64

Airworthiness Directives; Airbus Model A330, A340-200, and A340-300 Series Airplanes

AGENCY: Federal Aviation Administration, DOT.

ACTION: Supplemental notice of proposed rulemaking; reopening of comment period.

SUMMARY: This document revises an earlier proposed airworthiness directive (AD), applicable to the airplane models listed above. That proposed AD would have superseded an existing AD currently requiring repetitive inspections to detect discrepancies of the transfer tubes and the collar of the ball nut of the trimmable horizontal stabilizer actuator (THSA), and corrective action if necessary. The proposed AD would have expanded the applicability of the existing AD; and required new repetitive inspections for discrepancies of the ball screw assembly; corrective action if necessary; repetitive greasing of the THSA ball nut, and replacement of the THSA if necessary; and a modification or replacement (as applicable) of the ball nut assembly, which would end certain repetitive inspections. This new action revises the proposed AD by clarifying affected part numbers and adding a new compliance time for the inspection of the ball screw assembly which would apply under certain conditions. The actions specified by this new proposed AD are intended to prevent degraded operation of the THSA due to the entrance of water into the ball nut. Degraded operation could lead to reduced controllability of the airplane. This action is intended to address the identified unsafe condition.

DATES: Comments must be received by September 27, 2004.

ADDRESSES: Submit comments in triplicate to the Federal Aviation Administration (FAA), Transport Airplane Directorate, ANM-114, Attention: Rules Docket No. 2001-NM-243-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-243-AD” in the subject line and need not be submitted in triplicate. Comments sent via the Internet as attached electronic files must be formatted in Microsoft Word 97 or 2000 or ASCII text.

The service information referenced in the proposed rule may be obtained from Airbus, 1 Rond Point Maurice Bellonte, 31707 Blagnac Cedex, France. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-243-AD.” The postcard will be date stamped and returned to the commenter.

Availability of NPRMs

Any person may obtain a copy of this NPRM by submitting a request to the FAA, Transport Airplane Directorate, ANM-114, Attention: Rules Docket No. 2001-NM-243-AD, 1601 Lind Avenue, SW., Renton, Washington 98055-4056.

Discussion

A proposal to amend part 39 of the Federal Aviation Regulations (14 CFR part 39) to add an airworthiness directive (AD), applicable to certain Airbus Model A330, A340-200, and A340-300 series airplanes, was published as a notice of proposed rulemaking (NPRM) in the Federal Register on April 5, 2004 (69 FR 17610). That NPRM proposed to supersede AD 2001-11-09, amendment 39-12252 (66 FR 31143, June 11, 2001), which is applicable to certain Airbus Model A330 and A340 series airplanes. That proposal would have continued to require repetitive inspections to detect discrepancies of the transfer tubes and the collar of the ball nut of the trimmable horizontal stabilizer actuator (THSA); and corrective action, if necessary. That proposal would have expanded the applicability of the existing AD; and would have required new repetitive inspections for discrepancies of the ball screw assembly; corrective action if necessary; repetitive greasing of the THSA ball nut, and replacement of the THSA if necessary; and a modification or replacement (as applicable) of the ball nut assembly. Such modification or replacement (as applicable) would have terminated certain repetitive inspections. That NPRM was prompted by reports of additional incidents in which transfer tubes disconnected from the ball nut of the THSA. In response to these incidents, Airbus enhanced existing maintenance instructions for repetitive greasing of the THSA and developed procedures for new repetitive inspections for discrepancies of the ball screw assembly. The proposed requirements were intended to prevent degraded operation of the THSA due to the entrance of water into the ball nut, which, if not corrected, could result in reduced controllability of the airplane.

Explanation of New Relevant Service Information

Airbus has issued Service Bulletin (SB) A330-27-3102, Revision 04, dated December 8, 2003. (The original NPRM refers to Airbus SB A330-27-3102, Revision 03, dated June 20, 2003, as the acceptable source of service information for accomplishing certain inspections and corrective actions.) Revision 04 of the SB clarifies procedures for inspecting the lower attachment of the trimmable horizontal stabilizer to the THSA, and revises an incorrect airplane maintenance manual (AMM) reference, but adds no new procedures. Accordingly, we have revised paragraph (e) of this supplemental NPRM to refer to Revision 04 as the acceptable source of service information for the actions required by that paragraph. We have also revised paragraph (i)(2) of this supplemental NPRM (which was included as paragraph (h)(2) of the original NPRM) to state that inspections and corrective actions accomplished previously in accordance with Airbus SB A330-27-3102, Revision 03, are acceptable for compliance with paragraph (e). The Direction Générale de l'Aviation Civile (DGAC), which is the airworthiness authority for France, has approved Airbus SB A330-27-3102, Revision 04.

Comments

Interested persons have been afforded an opportunity to participate in the making of this amendment. Due consideration has been given to the comments received.

Request To Clarify Affected Part Numbers

Two commenters request that we revise paragraphs (d) and (e) of the original NPRM to clarify whether those paragraphs require repetitive greasing of the ball nut and repetitive inspections of the ball screw assembly of the THSA for any THSA having part number (P/N) 47172-300. The commenters note that both the referenced Airbus SBs and the parallel French airworthiness directive reference those THSAs as subject parts.

We agree that we need to clarify paragraphs (d) and (e) of this supplemental NPRM. When we prepared the original NPRM, we considered the reference to “P/N 47172” to include P/N 47172-300. We now realize that our intent was not clear. Thus we have revised paragraphs (d) and (e) of this supplemental NPRM to specifically identify P/N 47172-300 as an affected P/N.

Request To Add On-Condition Compliance Time for Inspection of THSAs

One commenter also notes that paragraph 3.2.3. of French airworthiness directives 2002-414(B) R2 and 2002-415(B) R2, both dated October 30, 2002, specifies to inspect, before the next flight, any THSA having P/N 47172-300 before the next flight if the “PRIM X PITCH FAULT” or “STAB CTL FAULT” message is displayed on the Electronic Centralized Aircraft Monitor (ECAM). (The French airworthiness directives identify Airbus Service Bulletins A330-27-3102 and A340-27-4107 as the sources of instructions for this inspection.) The commenter notes that this provision for inspecting THSAs having P/N 47172-300 before further flight was omitted from the original NPRM.

We agree that this provision was inadvertently omitted from the original NPRM. Further, we note that this inspection was omitted for not only THSAs having P/N 47172-300, but also for P/Ns 47147-XXX and 47172. Therefore, we have added a new paragraph (f) to this supplemental NPRM to specify that the inspection in paragraph (e) of this AD must be done before further flight if an applicable message is displayed on the ECAM.

Request To Correct Source for Replacement Procedures

One commenter notes that paragraphs (d) and (e)(2) of the proposed AD specify replacement of the THSA in accordance with the applicable referenced SB. The commenter points out that the referenced SB does not contain procedures for such replacement. The commenter requests that we revise the proposed AD to specify replacement of the THSA in accordance with the AMM.

We agree. Paragraph 3.B.(3) of Airbus SBs A330-27-3102, Revision 04; and A340-27-4107, Revision 04, dated June 20, 2003; specify to replace the THSA but do not specify procedures for such replacement. Consequently, we have revised paragraphs (d) and (e)(2) of this supplemental NPRM to specify that any necessary replacement of the THSA must be accomplished in accordance with a method approved by us or the DGAC (or its delegated agent). Replacement of the THSA in accordance with Chapter 27-44-51 of the Airbus A330/A340 AMM is one approved method.

Request To Correct Reference to Secondary SB

One commenter points out that references to a certain TRW SB in the “Explanation of Relevant Service Information” section and Note 4 of the original NPRM are incorrect. The references to “TRW Aeronautical Systems SB 47172-27-10” should have read “TRW Aeronautical Systems SB 47147-27-10.” Airbus SBs A330-27-3093 and A340-27-4099 refer to TRW Aeronautical Systems SB 47147-27-10 as the appropriate source of service information for modifying the ball nut of the THSA.

We agree and have revised Note 4 of this supplemental NPRM accordingly. The relevant section of the preamble of the original NPRM is not restated in this supplemental NPRM, so no further change is possible in this regard.

Explanation of Additional Change Made to Supplemental NPRM

For clarification, the FAA has revised the definition of a “general visual inspection” in this action.

Conclusion

Since certain changes described previously expand the scope of the original NPRM, the FAA has determined that it is necessary to reopen the comment period to provide additional opportunity for public comment.

Changes to 14 CFR Part 39/Effect on the Proposed AD

On July 10, 2002, the FAA issued a new version of 14 CFR part 39 (67 FR 47997, July 22, 2002), which governs the FAA's airworthiness directives system. The regulation now includes material that relates to altered products, special flight permits, and alternative methods of compliance (AMOCs). These changes are reflected in this supplemental NPRM.

Cost Impact

There are approximately 9 Model A330 series airplanes of U.S. registry that would be affected by this proposed AD. Currently, there are no affected Model A340-200 or -300 series airplanes on the U.S. Register. However, if an affected Model A340-200 or -300 series airplane is imported and placed on the U.S. Register in the future, the following costs would also apply to those airplanes.

The inspections (in accordance with Airbus All Operators Telex (AOT) A330-27A3088 or A340-27A4093, as applicable) that are currently required by AD 2001-11-09 take approximately 1 work hour per airplane, per inspection cycle, at an average labor rate of $65 per work hour. Based on these figures, the cost impact of the currently required actions on U.S. operators is estimated to be $585, or $65 per airplane, per inspection cycle.

The new inspections (in accordance with Airbus SBs A330-27-3088 or A340-27-4093, as applicable) that are proposed in this supplemental NPRM would take approximately 1 work hour per airplane, per inspection cycle, at an average labor rate of $65 per work hour. Based on these figures, the cost impact of this proposed requirement on U.S. operators is estimated to be $585, or $65 per airplane, per inspection cycle.

The new greasing action that is proposed in this supplemental NPRM would take approximately 1 work hour per airplane, per maintenance cycle, at an average labor rate of $65 per work hour. Based on these figures, the cost impact of this proposed requirement on U.S. operators is estimated to be $585, or $65 per airplane, per maintenance cycle.

In addition to the actions stated above, certain airplanes may be subject to additional actions. The following table contains the cost impact estimate for each airplane affected by the SBs listed below, at an average labor rate of $65 per work hour:

For airplanes listed in Airbus SB— | Estimated number of work hours | Estimated parts cost | Estimated cost per airplane
A330-27-3085 or A340-27-4089, both Revision 02 | 12 | No charge | $780
A330-27-3093 or A340-27-4099, both Revision 01 | 6 | No charge | 390
A330-27-3052, Revision 03 | 6 | No charge | 390
A330-27-3007, Revision 01 | 1 | No charge | 65
A330-27-3015 | 2 | No charge | 130
A330-27-3047, Revision 01 | 2 | No charge | 130
A330-27-3050 | 2 | No charge | 130
A330-55-3020, Revision 01 | 2 (inspection only) | None | 130
A340-27-4059, Revision 03 | 6 | No charge | 390
A340-27-4007 | 2 | No charge | 130
A340-27-4025 | 2 | No charge | 130
A340-27-4054, Revision 01 | 2 | No charge | 130
A340-27-4057 | 2 | No charge | 130
A340-55-4021, Revision 01 | 2 (inspection only) | None | 130

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12252 (66 FR 31143, June 11, 2001), and by adding a new airworthiness directive (AD), to read as follows:

Airbus: Docket 2001-NM-243-AD. Supersedes AD 2001-11-09, Amendment 39-12252.

Applicability: All Model A330, A340-200, and A340-300 series airplanes; certificated in any category.

Compliance: Required as indicated, unless accomplished previously.

To prevent degraded operation of the trimmable horizontal stabilizer actuator (THSA) due to the entrance of water into the ball nut, which could result in reduced controllability of the airplane, accomplish the following:

Requirements of AD 2001-11-09

Repetitive Inspections

(a) For Model A330, A340-200, and A340-300 series airplanes equipped with a THSA part number (P/N) 47172, and on which Airbus Modification 45299 has been performed: Within 150 flight hours from June 26, 2001 (the effective date of AD 2001-11-09, amendment 39-12252), perform a detailed inspection to detect discrepancies in the THSA (including distortion of the transfer tubes, disconnection of the tubes, and distortion of the collar of the ball nut), in accordance with Airbus All Operators Telex (AOT) A330-27A3088 (for Model A330 series airplanes) or A340-27A4093 (for Model A340 series airplanes), both dated April 5, 2001, as applicable. If any discrepancy, as defined in paragraph 4-2-2/Rejection Criteria of the applicable AOT, is detected, prior to further flight, replace the THSA with a serviceable one, in accordance with the applicable AOT.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(b) At intervals not to exceed 150 flight hours, repeat the inspection mandated in paragraph (a) of this AD, until paragraph (c) of this AD has been accomplished.

New Requirements of This AD

Repetitive Detailed Inspections of THSA Ball Nut and Corrective Action

(c) For airplanes equipped with a THSA having P/N 47172 or 47147-400: At the applicable compliance time specified in paragraph (c)(1), (c)(2), or (c)(3) of this AD, perform a detailed inspection of the transfer tubes and collar on the THSA ball nut to detect discrepancies, including ball migration, distortion, or evidence of disconnection of the THSA ball nut; in accordance with Airbus Service Bulletin A330-27-3088 (for Model A330 series airplanes) or A340-27-4093 (for Model A340-200 and -300 series airplanes), both Revision 04, both dated September 5, 2002; as applicable. Repeat this inspection at intervals not to exceed 150 flight hours until paragraph (g) of this AD is accomplished. If any discrepancy is found during any inspection in accordance with this paragraph, before further flight, repair the THSA, in accordance with a method approved by the Manager, International Branch, ANM-116, Transport Airplane Directorate, FAA; or the Direction Générale de l'Aviation Civile (DGAC) (or its delegated agent).

(1) For airplanes equipped with a THSA having P/N 47172 or 47147-400: Except as provided by paragraph (c)(3) of this AD, for airplanes inspected before the effective date of this AD in accordance with paragraph (a) of this AD, do the initial inspection within 150 flight hours since the most recent inspection in accordance with paragraph (a) or (b) of this AD. Accomplishment of this inspection terminates the repetitive inspections required by paragraph (b) of this AD.

(2) For airplanes equipped with a THSA having P/N 47172 or 47147-400: Except as provided by paragraph (c)(3) of this AD, for airplanes not inspected before the effective date of this AD in accordance with paragraph (a) of this AD, do the initial inspection within 150 flight hours after the effective date of this AD. Accomplishment of this inspection within the compliance time specified in paragraph (a) of this AD eliminates the need to accomplish the inspection in paragraph (a) of this AD and terminates the repetitive inspections required by paragraph (b) of this AD.

(3) For airplanes equipped with a THSA having P/N 47172 or 47147-400: If the “PRIM X PITCH FAULT” or “STAB CTL FAULT” message is displayed on the Electronic Centralized Aircraft Monitor (ECAM) associated with the “PITCH TRIM ACTR (1CS)” maintenance message, do the inspection in paragraph (c) of this AD before further flight after the message is displayed on the ECAM.

Repetitive Greasing Procedure

(d) For airplanes equipped with a THSA having P/N 47172, 47172-300, or 47147-XXX (where “XXX” is any dash number): Within 700 flight hours after accomplishment of the last greasing of the ball nut of the THSA, grease the ball nut of the THSA in accordance with a method approved by the Manager, International Branch, ANM-116; or the DGAC (or its delegated agent). Doing the actions in Chapter 12-22-27, page block 301, of the Airplane Maintenance Manual is one approved method. Repeat the greasing procedures at intervals not to exceed 700 flight hours. If, during any accomplishment of the greasing procedure, the new grease is expelled from the transfer tube (instead of through the drain hole): Before further flight, replace the THSA with a new or serviceable THSA in accordance with a method approved by either the Manager, International Branch, ANM-116, Transport Airplane Directorate, FAA; or the DGAC (or its delegated agent). Replacement of the THSA in accordance with Chapter 27-44-51 of the Airbus A330/A340 AMM is one approved method.

Repetitive Inspections of the Ball Screw Assembly and Corrective Actions

(e) For airplanes equipped with a THSA having P/N 47172, 47172-300, or 47147-XXX (where “XXX” is any dash number): Except as provided by paragraph (f) of this AD, within 700 flight hours after the effective date of this AD, perform a detailed inspection of the ball screw assembly for discrepancies; including cracks, metallic debris, dents, corrosion, loose nuts, and damaged or missing lock washers and pins; and an inspection of the gap between the secondary nut tenons and the transfer plates using a feeler gage to ensure free movement; in accordance with Airbus Service Bulletins A330-27-3102, Revision 04, dated December 8, 2003 (for Model A330 series airplanes); or A340-27-4107, Revision 04, dated June 20, 2003 (for Model A340-200 and -300 series airplanes); as applicable.

(1) Repeat the inspection at intervals not to exceed 700 flight hours, except as provided by paragraph (f) of this AD.

(2) If any discrepancy is found that is outside the limits specified in the applicable service bulletin, before further flight, replace the THSA with a new part, in accordance with a method approved by either the Manager, International Branch, ANM-116; or the DGAC (or its delegated agent). Replacement of the THSA in accordance with Chapter 27-44-51 of the Airbus A330/A340 AMM is one approved method.

Note 2: There is no terminating action at this time for the repetitive actions required by paragraphs (d) and (e) of this AD.

(f) If the “PRIM X PITCH FAULT” or “STAB CTL FAULT” message is displayed on the ECAM associated with the “PITCH TRIM ACTR (1CS)” maintenance message, do the inspection in paragraph (e) of this AD before further flight after the message is displayed on the ECAM.

Modification

(g) Within 24 months after the effective date of this AD, modify the ball nut of each THSA by doing paragraph (g)(1) or (g)(2) of this AD, as applicable. Accomplishment of paragraph (g)(1) or (g)(2) of this AD terminates the repetitive inspections required by paragraph (c) of this AD.

(1) For THSAs having P/N 47172: Modify the ball nut of the THSA, or replace the existing THSA with a serviceable part having P/N 47172-300; in accordance with Airbus Service Bulletin A330-27-3085 (for Model A330 series airplanes) or A340-27-4089 (for Model A340-313 series airplanes), both Revision 02, both dated September 5, 2002; as applicable.

Note 3: Airbus Service Bulletins A330-27-3085 and A340-27-4089 refer to TRW Aeronautical Systems Service Bulletin 47172-27-03 as the appropriate source of service information for additional instructions for accomplishing the modification of the ball nut of the THSA.

(2) For THSAs having P/N 47147-2XX, 47147-3XX, or 47147-400 (where “XX” represents any dash number): Modify the ball nut of the THSA, or replace the existing THSA with an improved part having P/N 47147-500; as applicable; in accordance with Airbus Service Bulletin A330-27-3093 (for Model A330 series airplanes), or A340-27-4099 (for Model A340-200 and -300 series airplanes), both Revision 01, both dated September 5, 2002; as applicable.

Note 4: Airbus Service Bulletins A330-27-3093 and A340-27-4099 refer to TRW Aeronautical Systems Service Bulletin 47147-27-10 as the appropriate source of service information for additional instructions for accomplishing the modification of the ball nut of the THSA.

Previous/Concurrent Requirements

(h) Prior to or concurrently with accomplishment of the requirements of paragraph (g)(2) of this AD, do all of the actions specified in the Accomplishment Instructions of the applicable Airbus service bulletins listed in Table 1 or 2 of this AD, as applicable, in accordance with those service bulletins.

Note 5: Airbus Service Bulletin A330-27-3093, Revision 01, dated September 5, 2002, specifies that the actions in Airbus Service Bulletin A330-27-3052 must be accomplished previously or concurrently. Airbus Service Bulletin A330-27-3052, Revision 03, dated December 5, 2001, specifies that the actions in Airbus Service Bulletins A330-27-3007, A330-27-3015, A330-27-3047, A330-27-3050, and A330-27-3020 must be accomplished previously or concurrently.

Note 6: Airbus Service Bulletin A340-27-4099, Revision 01, dated September 5, 2002, specifies that the actions in Airbus Service Bulletin A340-27-4059 must be accomplished previously or concurrently. Airbus Service Bulletin A340-27-4059, Revision 03, dated December 5, 2001, specifies that the actions in Airbus Service Bulletins A340-27-4007, A340-27-4025, A340-27-4054, A340-27-4057, and A340-55-4021, must be accomplished previously or concurrently.

Table 1.—Previous/Concurrent Requirements for Model A330 Series Airplanes
Airbus service bulletin | Revision level | Date | Main action | Additional source of service information
A330-27-3052 | 03 | December 5, 2001 | Replace THSA with a modified THSA | Lucas Aerospace Service Bulletin 47147-27-07.
A330-27-3007 | 01 | September 18, 1996 | Replace rudder servo controls with modified parts | Samm Avionique Service Bulletin SC5300-27-24-01.
A330-27-3015 | Original | June 7, 1995 | Modify the control valve detent and the jamming protection device on the THSA | Lucas Aerospace Service Bulletin 47147-27-02.
A330-27-3047 | 01 | November 26, 1997 | Replace hydraulic motors on the THSA with new parts | Lucas Aerospace Service Bulletin 47147-27-04.
A330-27-3050 | Original | November 15, 1996 | Replace mechanical input shaft for THSA with modified part | Lucas Aerospace Service Bulletin 47147-27-05.
A330-55-3020 | 01 | October 21, 1998 | Perform a general visual inspection of the THSA screw jack fitting assembly for correct installation of a washer; and correctly install washer as applicable | None.

Table 2.—Previous/Concurrent Requirements for Model A340 Series Airplanes
Airbus service bulletin | Revision level | Date | Main action | Additional source of service information
A340-27-4059 | 03 | December 5, 2001 | Replace THSA with a modified THSA | Lucas Aerospace Service Bulletin 47147-27-07.
A340-27-4007 | Original | April 7, 1994 | Replace hydraulic motors on the THSA with new parts | Lucas Aerospace Service Bulletin 47147-27-01.
A340-27-4025 | Original | June 7, 1995 | Modify the control valve detent and the jamming protection device on the THSA | Lucas Aerospace Service Bulletin 47147-27-02.
A340-27-4054 | 01 | November 26, 1997 | Replace hydraulic motors on the THSA with new parts | Lucas Aerospace Service Bulletin 47147-27-04.
A340-27-4057 | Original | November 15, 1996 | Replace mechanical input shaft for THSA with modified part | Lucas Aerospace Service Bulletin 47147-27-05.
A340-55-4021 | 01 | October 21, 1998 | Perform a general visual inspection of the THSA screw jack fitting assembly for correct installation of a washer; and correctly install washer as applicable | None.

Note 7: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Actions Accomplished Previously

(i) Actions accomplished before the effective date of this AD in accordance with previous revisions of the service information referenced in this AD are acceptable for corresponding actions required by this AD as specified in paragraphs (i)(1), (i)(2), (i)(3), and (i)(4) of this AD.

(1) Inspections and corrective actions accomplished in accordance with Airbus Service Bulletin A330-27-3088 (for Model A330 series airplanes) or A340-27-4093 (for Model A340-200 and -300 series airplanes), both Revision 03, both including Appendix 01, both dated October 19, 2001; as applicable; are acceptable for compliance with paragraph (c) of this AD.

(2) Inspections and corrective actions accomplished in accordance with Airbus Service Bulletin A330-27-3102, Revision 02, including Appendix 01, dated November 7, 2002, or Revision 03, including Appendix 01, dated June 20, 2003 (for Model A330 series airplanes); or A340-27-4107, Revision 03, including Appendix 01, dated December 4, 2002 (for Model A340-200 and -300 series airplanes); as applicable; are acceptable for compliance with paragraph (e) of this AD.

(3) Modifications accomplished in accordance with Airbus Service Bulletin A330-27-3085 (for Model A330 series airplanes) or A340-27-4089 (for Model A340-313 series airplanes), both Revision 01, both dated January 23, 2002; as applicable; are acceptable for compliance with paragraph (g)(1) of this AD.

(4) Modifications accomplished in accordance with Airbus Service Bulletin A330-27-3093 (for Model A330 series airplanes), or A340-27-4099 (for Model A340-200 and -300 series airplanes), both dated June 27, 2002; as applicable; are acceptable for compliance with paragraph (g)(2) of this AD.

No Reporting Required

(j) Where Airbus Service Bulletins A330-27-3088, Revision 04, dated September 5, 2002; A340-27-4093, Revision 04, dated September 5, 2002; A330-27-3102, Revision 03, dated June 20, 2003; and A340-27-4107, Revision 04, dated June 20, 2003; describe procedures for completing a reporting sheet with inspection results, this AD does not require that action.

Alternative Methods of Compliance

(k) In accordance with 14 CFR 39.19, the Manager, International Branch, ANM-116, is authorized to approve alternative methods of compliance for this AD.

Note 8: The subject of this AD is addressed in French airworthiness directives 2002-414(B) R2 and 2002-415(B) R2, both dated October 30, 2002.

Issued in Renton, Washington, on August 19, 2004.
Kalene C. Yanamura,
Acting Manager, Transport Airplane Directorate, Aircraft Certification Service.

[FR Doc. 04-19835 Filed 8-30-04; 8:45 am]

BILLING CODE 4910-13-P